DEPARTMENT OF ENERGY

Nuclear Regulatory Commission

[Docket Nos. 50-327 and 50-328]

Tennessee Valley Authority; Notice of Withdrawal of Application for Amendments to Facility Operating Licenses

The U.S. Nuclear Regulatory Commission (the Commission) has granted the request of Tennessee Valley Authority (TVA) to withdraw its August 30, 1999, application for proposed amendments to Facility Operating Licenses Nos. DPR-77 and DPR-79 for the Sequoyah Nuclear Plant, Units 1 and 2, located in Hamilton County, Tennessee. Notice of Consideration of Issuance of this amendment was published in the Federal Register on October 6, 1999 (64 FR 54382).

The proposed amendments would have revised the facility technical specifications (TS) by adding a Section 3.0.7 to address the use of interim provisions upon the discovery of an unintended TS action.

Subsequently, by letter dated October 17, 2000, TVA withdrew the proposed amendment application on the basis that approval of the amendment was unlikely because of legal concerns on the part of the Commission.

For further details with respect to this action, see the application for amendments dated August 30, 1999, and the TVA's letter dated October 17, 2000, which withdrew the application for license amendments.

These Documents may be examined, and/or copied for a fee, at the Commission's Public Document room, located at One White Flint North, 11555 Rockville Pike (first floor), Rockville, Maryland, and accessible electronically through the ADAMS Public Electronic Reading Room link at the NRC Web site (http://www.nrc.gov).

Dated at Rockville, Maryland, this 27th day of October 2000.
For the Nuclear Regulatory Commission.
Ronald W. Hernan,
Senior Project Manager, Section 2, Project Directorate II, Division of Licensing Project Management, Office of Nuclear Reactor Regulation.

[FR Doc. 00-28121 Filed 11-1-00; 8:45 am]

BILLING CODE 7590-01-P